DEPARTMENT OF ENERGY

Federal Energy Regulatory Commission

[Docket Nos. EC06-38-000, et al.]

The Goldman Sachs Group, Inc. et al.; Electric Rate and Corporate Filings

December 28, 2005.

The following filings have been made with the Commission. The filings are listed in ascending order within each docket classification.

1. The Goldman Sachs Group, Inc.

[Docket No. EC06-38-000]

Take notice that on December 12, 2005, The Goldman Sachs Group, Inc. (GS Group) filed with the Federal Energy Regulatory Commission (Commission) an application pursuant to Section 203(a)(2) of the Federal Power Act seeking blanket authorization for the acquisition, directly or indirectly, of securities of electric utility companies, transmitting utilities or of any holding company over any electric utility company or transmitting utility, subject to certain proposed limitations.

Comment Date: 5 p.m. eastern time on January 13, 2006.

2. SCANA Corporation, South Carolina Electric & Gas Company, and South Carolina Generating Company, Inc.

[Docket Nos. EC06-39-000 and ES06-18-000]

Take notice that on December 13, 2005, South Carolina Electric & Gas Company (SCE&G) and South Carolina Generating Company, Inc. (GENCO) filed an application seeking authority pursuant to section 204 and 203 of the Federal Power Act: (i) For SCE&G and GENCO to issue up to $700 million and $100 million, respectively, of short-term unsecured promissory notes in the form of bank loans and commercial paper, or borrowings from the SCANA Utility Money Pool during the period ending December 31, 2007, (ii) for SCANA Corporation (SCANA) to purchase, acquire or take not more than $700 million of such short-term debt of SCE&G and not more than $100 million of such short-term debt of GENCO, for SCE&G to purchase, acquire or take not more than $100 million of such short-term debt of GENCO, and for GENCO to purchase, acquire or take not more than $100 million of such short-term debt of SCE&G; and (iii) for SCANA to make capital contributions to, and/or acquire equity securities of, SCE&G and GENCO in amounts not to exceed $200 million (as to SCE&G) and $100 million (as to GENCO).

Comment Date: 5 p.m. Eastern Time on January 13, 2006.

3. Xcel Energy Services Inc.

[Docket Nos. EC06-40-000 and ER06-320-000]

Take notice that on December 13, 2005, Xcel Energy Services Inc., on behalf of Southwestern Public Service Company, submitted pursuant to sections 203 and 205 of the Federal Power Act, respectively: (i) An application for authorization for the sale of certain jurisdictional electrical transmission assets located in the states of Oklahoma and Kansas, and in and around the city of Texhoma, Texas, to Tri-County Electric Cooperative, Inc., an Oklahoma Electric Cooperative; and (ii) a request for approval of a proposed rate schedule for the sale of full requirements power and energy to Tri-County Electric Cooperative, Inc.

Comment Date: 5 p.m. eastern time on January 13, 2006.

4. Aquila, Inc. and Mid-Kansas Electric Company

[Docket No. EC06-46-000]

Take notice that on December 19, 2005, Aquila, Inc. (Aquila) and Mid-Kansas Electric Company (MKEC) filed with the Federal Energy Regulatory Commission an application under section 203 of the Federal Power Act seeking approval of a transaction wherein Aquila will sell its Kansas Electric Network to MKEC. Aquila and MKEC seek Commission approval by April 17, 2006.

Comment Date: 5 p.m. eastern time on January 13, 2006.

5. Westar Energy, Inc.; ONEOK Energy Services Company, L.P.

[Docket No. EC06-48-000]

Take notice that on December 21, 2005, Westar Energy, Inc. and ONEOK Energy Services Company, L.P. (collectively, Applicants), filed with the Federal Energy Regulatory Commission an application pursuant to section 203 of the Federal Power Act for authorization for the disposition of jurisdictional assets related to ONEOK ESC's proposed: (1) Sale to Westar Energy of an approximately 300 MW single cycle combustion turbine generating facility and associated transmission facilities located in Logan County, Oklahoma; and (2) transfer to Westar Energy of a wholesale power sales contract that gives the Oklahoma Municipal Power Authority the right to purchase up to 75 MW of the output of the Facility, all as more fully described in the Application. The Applicants have requested confidential treatment of the asset purchase agreement related to the proposed transaction and certain workpapers supporting the Application.

Comment Date: 5 p.m. eastern time on January 13, 2006.

6. Atlantic City Electric Company; Duquesne Light Holdings, Inc.

[Docket No. EC06-49-000]

Take notice that on December 23, 2005, Atlantic City Electric Company and Duquesne Light Holdings, Inc. (collectively, Applicants) pursuant to section 203 of the Federal Power Act, request authorization for Atlantic to transfer to DL Holdings or to one or more of its direct or indirect wholly-owned subsidiaries minority undivided interest in certain facilities associated with the Keystone Electric Generating Station and the Conemaugh Electric Generating Station.

Comment Date: 5 p.m. eastern time on January 17, 2006.

7. Hardee Power Partners Limited

[Docket No. EG06-22-000]

Take notice that on December 15, 2005, Hardee Power Partners Limited filed with the Commission an application for redetermination of exempt wholesale generator status pursuant to part 365 of the Commission's regulations.

Comment Date: 5 p.m. eastern time on January 5, 2006.

8. Sweetwater Wind 3 LLC

[ Docket No. EG06-23-000]

Take notice that on December 20, 2005, Sweetwater Wind 3 LLC, a Delaware limited liability company (SWW3), filed with the Federal Energy Regulatory Commission an application for determination of exempt wholesale generator status pursuant to part 365 of the Commission's regulations.

SWW3 states that it intends to operate a 135-MW wind powered generation facility currently under construction near Sweetwater, Nolan County, Texas. SWW3 further states that when completed, the electric energy produced by the facility will be sold into the wholesale power market of the Electric Reliability Council of Texas and is expected to begin commercial operation by December 31, 2005.

Comment Date: 5 p.m. eastern time on January 11, 2006.

9. Elkem Metals Company—Alloy L.P.

[Docket No. EG06-24-000]

Take notice that on December 20, 2005, Elkem Metals Company—Alloy L.P. submits for filing its application for determination of exempt wholesale generator status.

Comment Date: 5 p.m. eastern time on January 11, 2006.

10. Granite State Hydropower Association, Inc. and Vermont Independent Power Producers Assoc.

[Docket No. EL06-26-000]

Take notice that on December 12, 2005, Granite State Hydropower Association, Inc. and Vermont Independent Power Producers Association (collectively, Petitioners) tendered for filing a Petition for Rulemaking seeking Commission action to promulgate regulations governing the procedures by which traditional utilities may seek to eliminate the mandatory purchase obligation required by the Public Utilities Regulatory Policies Act of 1978 as permitted by new section 210(m) of PURPA enacted as part of the Energy Policy Act of 2005.

Comment Date: 5 p.m. eastern time on January 31, 2006.

11. City of Vernon, California

[Docket No. EL06-32-000]

Take notice that on December 15, 2005, the City of Vernon, California (Vernon) tendered for filing its revision to its Transmission Revenue Balancing Account Adjustment to be effective in calendar year 2006. Vernon request an effective date of January 1, 2006.

Comment Date: 5 p.m. eastern time on January 5, 2006.

12. City of Banning, California

[Docket No. EL06-33-000]

Take notice that on December 16, 2005, the City of Banning, California (Banning) tendered for filing its third annual revision to its Transmission Revenue Balancing Account Adjustment. Banning request an effective date of January 1, 2006.

Comment Date: 5 p.m. eastern time on January 6, 2006.

13. City of Pasadena, California

[Docket No. EL06-34-000]

Take notice that on December 21, 2005, the City of Pasadena, California (Pasadena), tendered for filing its first annual revision to its Transmission Revenue Balancing Account Adjustment. Pasadena request an effective date as January 1, 2006.

Comment Date: 5 p.m. eastern time on January 11, 2006.

14. Tampa Electric Company; TECO EnergySource, Inc.; Tampa Electric Co., et al.

[Docket Nos. ER99-2342-008; ER96-1563-025; EL05-68-002]

Take notice that on December 19, 2005, Tampa Electric Co., TECO EnergySource, Inc. and Tampa Electric Co. et al., tender for filing their acceptance of the mitigation and conditions imposed in the November 17 Order plus revision to Tampa Electric's market-based rate tariffs, FERC Electric Tariff, Original Volume Nos. 5 and 6.

Comment Date: 5 p.m. eastern time on January 9, 2006.

15. New York Independent System Operator Inc.

[Docket No. ER01-3001-013]

Take notice that on December 15, 2005, the New York Independent System Operator, Inc. (NYISO) submits its sixth Biannual report on Demand Response Programs and status of new generation resources in the New York Control Area.

Comment Date: 5 p.m. eastern time on January 5, 2006.

16. North American Energy Credit and Clearing-Delivery LLC

[No. ER06-326-000]

Take notice that on December 13, 2005, North American Energy Credit and Clearing-Delivery LLC petition the Commission for acceptance of Rate Schedule FERC No. 1, the granting of certain blanket approvals, including the authority to sell electricity at market-based rates; and the waiver of certain Commission regulations.

Comment Date: 5 p.m. eastern time on January 5, 2006.

17. Morenci Water & Electric Company

[Docket No. OA04-2-000]

Take notice that on December 13, 2005, Morenci Water & Electric Company states that it is not a public utility under section 201(e) of the Federal Power Act and, thus, not subject to regulation of filing Form 1 and Form 3-Q and not subject to recordkeeping or reporting requirements.

Comment Date: 5 p.m. eastern time on January 6, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nora E. Donovan,
Acting Secretary.

[FR Doc. E5-8301 Filed 1-4-06; 8:45 am]

BILLING CODE 6717-01-P